DEPARTMENT OF COMMERCE

International Trade Administration

[A-570-868]

Notice of Postponement of Preliminary Antidumping Duty Determination: Folding Metal Tables and Chairs From the People's Republic of China

AGENCY: Import Administration, International Trade Administration, Department of Commerce.

EFFECTIVE DATE: November 9, 2001.

FOR FURTHER INFORMATION CONTACT: Helen Kramer or John Drury at (202) 482-0405 and (202) 482-0195, respectively, Import Administration, International Trade Administration, U.S. Department of Commerce, 14th Street and Constitution Avenue, NW, Washington, DC 20230.

Postponement of Preliminary Determinations

The Department of Commerce (the Department) is postponing the preliminary determination in the antidumping duty investigation of Folding Metal Tables and Chairs from the People's Republic of China. The deadline for issuing the preliminary determination in this investigation is now November 23, 2001.

On October 4, 2001, the Department published a notice in the Federal Register postponing the preliminary determination in the antidumping investigation of Folding Metal Tables and Chairs from the People's Republic of China for 30 days at the request of the petitioner. See Notice of Postponement of Preliminary Antidumping Duty Determination: Folding Metal Tables and Chairs from the People's Republic of China, 66 FR 50608.

On October 23, 2001, the petitioner, Meco Corporation, requested an additional twenty-day postponement of the preliminary determination, in accordance with § 351.205(b) of the Department's regulations, to allow sufficient time to submit comments on the respondents' questionnaire responses and for the Department to analyze the respondents' data before the preliminary determination. Therefore, pursuant to section 733(c)(1)(A) of the Tariff Act of 1930, as amended, and § 351.205(e) of the regulations, and absent any compelling reason to deny the request, the Department is postponing the deadline for issuing this determination an additional 20 days (i.e., until November 23, 2001), which is the maximum 50 days allowed.

Dated: November 2, 2001.
Faryar Shirzad,
Assistant Secretary for Import Administration.

[FR Doc. 01-28224 Filed 11-8-01; 8:45 am]

BILLING CODE 3510-DS-P